DEPARTMENT OF TRANSPORTATION

Federal Aviation Administration

14 CFR Part 39

[Docket No. 2000-NM-97-AD; Amendment 39-11689; AD 2000-08-03]

RIN 2120-AA64

Airworthiness Directives; McDonnell Douglas Model MD-11 Series Airplanes

AGENCY: Federal Aviation Administration, DOT.

ACTION: Final rule; request for comments.

SUMMARY: This amendment supersedes an existing airworthiness directive (AD), applicable to certain McDonnell Douglas Model MD-11 series airplanes, that currently requires the deactivation of the forward and center cargo control units (CCU). That amendment was prompted by a report of failure of a CCU, which produced overheating of the electrical pins inside the CCU; the subsequent release of hot gases and flames ignited an adjacent insulation blanket. This amendment expands the applicability of the existing AD to include additional airplanes. The actions specified in this AD are intended to prevent overheating of the electrical pins inside the CCU's and subsequent release of hot gases and flames, which could result in smoke and fire in the cargo compartment.

DATES: Effective May 5, 2000. Comments for inclusion in the Rules Docket must be received on or before June 19, 2000.

ADDRESSES: Submit comments in triplicate to the Federal Aviation Administration (FAA), Transport Airplane Directorate, ANM-114, Attention: Rules Docket No. 2000-NM-97-AD, 1601 Lind Avenue, SW., Renton, Washington 98055-4056.

Information pertaining to this amendment may be examined at the FAA, Transport Airplane Directorate, 1601 Lind Avenue, SW., Renton, Washington; or at the FAA, Transport Airplane Directorate, Los Angeles Aircraft Certification Office, 3960 Paramount Boulevard, Lakewood, California.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: On February 28, 2000, the FAA issued AD 2000-05-01, amendment 39-11610 (65 FR 11459, March 3, 2000), applicable to certain McDonnell Douglas Model MD-11 series airplanes, to require the deactivation of the forward and center cargo control units (CCU). That action was prompted by a report of failure of a CCU, which produced overheating of the electrical pins inside the CCU; the subsequent release of hot gases and flames ignited an adjacent insulation blanket. The actions required by that AD are intended to prevent such conditions, which could result in smoke and fire in the cargo compartment.

The incident that prompted AD 2000-05-01 is not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This AD is one of a series of actions identified during that process. The process is continuing and the FAA may consider additional rulemaking actions as further results of the review become available.

Actions Since Issuance of Previous Rule

The applicability statement of AD 2000-05-01 lists the serial numbers of the affected airplanes, which were provided by the airplane manufacturer. Since the issuance of that AD, the airplane manufacturer has informed the FAA that it inadvertently provided two incorrect airplane serial numbers (i.e., 48679 and 58563); those serial numbers do not exist. The correct serial numbers of those two airplanes are 48769 and 48563. The FAA has determined that affected airplanes having serial numbers 48769 and 48563 also are subject to the identified unsafe condition.

Explanation of Requirements of Rule

Since an unsafe condition has been identified that is likely to exist or develop on other airplanes of this same type design, this AD supersedes AD 2000-05-01 to continue to require the deactivation of the forward and center CCU's. This AD also expands the applicability of the existing AD to include additional airplanes.

Interim Action

This is considered to be interim action. The FAA is currently considering requiring a modification of the CCU assembly would constitute terminating action for the requirements of this AD. However, the planned compliance time for the installation of the modification is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-97-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11610 (65 FR 11459, March 3, 2000), and by adding a new airworthiness directive (AD), amendment 39-11689, to read as follows:

2000-08-03 McDonnell Douglas: Amendment 39-11689. Docket 2000-NM-97-AD. Supersedes AD 2000-05-01, Amendment 39-11610.

Applicability: Model MD-11 series airplanes, certificated in any category, having the serial numbers listed below.

Group 1 Airplanes:
48565 | 48566 | 48533 | 48549 | 48470 | 48406
48504 | 48602 | 48603 | 48571 | 48439 | 48605
48572 | 48471 | 48573 | 48600 | 48601 | 48633
48513 | 48574 | 48575 | 48542 | 48543 | 48576
48415 | 48631 | 48544 | 48632 | 48577 | 48545
48578 | 48546 | 48743 | 48744 | 48747 | 48748
48745 | 48746 | 48749 | 48579 | 48766 | 48768
48767 | 48769 | 48754 | 48623 | 48770 | 48753
48773 | 48774 | 48755 | 48758 | 48775-48779 inclusive
48624 | 48756 | 48780 | 48532
Group 2 Airplanes:
48555 | 48556 | 48581 | 48630 | 48557 | 48539
48558 | 48559 | 48616 | 48560 | 48617 | 48618
48561 | 48629 | 48562 | 48563 | 48757 | 48540
48564 | 48634 | 48541 | 48798 | 48781-48792 inclusive
48794 | 48799 | 48801 | 48800 | 48802-48806 inclusive

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent overheating of the electrical pins inside the cargo control units (CCU) and subsequent release of hot gases and flames, which could result in smoke and fire in the cargo compartment, accomplish the following:

Restatement of Requirements of AD 2000-05-01:

Deactivation

(a) For Group 1 airplanes having serial numbers other than that identified in paragraph (c) of this AD: Within 15 days after March 20, 2000 (the effective date of AD 2000-05-01, amendment 39-11610), deactivate the forward and center CCU's in accordance with the following procedures:

(1) Remove the access panel to the forward cargo compartment CCU circuit breaker panel located at fuselage station 1009.300 (right side looking aft). Pull and collar the following circuit breakers:

B1-506

B1-485

B1-500

B1-489

B1-480

B1-495

B1-488

B1-481

B1-499

B1-487

B1-498

B1-490

B1-486

B1-482

(2) Remove the access panel to the center cargo compartment CCU circuit breaker panel located at fuselage station 1701.000 (right side looking aft). Pull and collar the following circuit breakers:

B1-552

B1-758

B1-753

B1-762

B1-518

B1-764

B1-761

B1-519

B1-752

B1-760

B1-751

B1-763

B1-759

B1-520

(b) For Group 2 airplanes having serial numbers other than that identified in paragraph (c) of this AD: Within 15 days after March 20, 2000, deactivate the forward and center CCU's in accordance with the following procedures:

(1) Remove the access panel to the forward cargo compartment CCU circuit breaker panel located at fuselage station 1009.300 (right side looking aft). Pull and collar the following circuit breakers:

B1-506

B1-485

B1-500

B1-489

B1-480

B1-495

B1-488

B1-481

B1-499

B1-487

B1-498

B1-490

B1-486

B1-482

(2) Remove the access panel to the center cargo compartment CCU circuit breaker panel located at fuselage station 1701.000 (right side looking aft). Pull and collar the following circuit breakers:

B1-552

B1-758

B1-753

B1-762

B1-518

B1-764

B1-761

B1-519

B1-752

B1-760

B1-751

B1-759

B1-520

New Requirements of this AD:

(c) For Group 1 airplane, serial number 48769, and for Group 2 airplane, serial number 48563: Within 15 days after the effective date of this AD, accomplish the actions specified in either paragraph (a) or (b) of this AD, as applicable.

Alternative Methods of Compliance

(d)(1) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

(2) Alternative methods of compliance, approved previously in accordance with AD 2000-05-01, amendment 39-11610, are approved as alternative methods of compliance with paragraph (a) or (b) of this AD, as applicable.

Special Flight Permits

(e) Special flight permits may be issued in accordance with sections 21.197 and 21.199 of the Federal Aviation Regulations (14 CFR 21.197 and 21.199) to operate the airplane to a location where the requirements of this AD can be accomplished.

(f) This amendment becomes effective on May 5, 2000.

Issued in Renton, Washington, on April 12, 2000.
Donald L. Riggin,
Acting Manager, Transport Airplane Directorate, Aircraft Certification Service.

[FR Doc. 00-9674 Filed 4-19-00; 8:45 am]

BILLING CODE 4910-13-U